DEPARTMENT OF AGRICULTURE

Forest Service

Umpqua National Forest, Douglas and Jackson Counties, OR; Cow Creek Timber Sale and Hazardous Fuels Reduction Project

AGENCY: Forest Service, USDA.

ACTION: Notice of intent to prepare an environmental impact statement.

SUMMARY: The USDA Forest Service will prepare an environmental impact statement (EIS) for reducing fire hazard, improving forest stand conditions and resilience to stand replacement fire for wildlife species, including the Northern spotted owl, and restoring fire regimes and historic (fire adapted) stand conditions in and around the Cow Creek and Tiller Wildland Urban Interface (WUI) areas. Fuel loadings and overall stand densities have increased and landscape scale forest structural diversity has been altered due to fire exclusion, increasing the potential size and severity of future wildfires, beyond what might have occurred historically. This EIS will be prepared under the authority of the Healthy Forests Restoration Act (HFRA) and will implement recommendations of the Douglas County Community Wildfire Protection Plans for the WUI's. The project proposes commercial thinning on about 6,300 acres of mid seral and mature unmanaged stands, leaving between 40-90 trees per acre (TPA); commercial thinning on about 2,700 acres of managed second-growth plantations, leaving between 50-90 TPA; non-commercial treatment of fuels on about 4,400 acres using non-commercial thinning, mastication, whip felling, chipping, piling and burning; treating activity-created fuels by underburning, machine piling, masticating, handpile burning, lopping and scattering, and/or yarding tops attached and whole tree yarding; using prescribed fire as the primary method of reducing fuels on about 813 acres; using about ⅛th of a mile of existing unclassified roads to access thinning/treatment areas, then decommissioning after use; building about 27 miles of new temporary spur roads for access, then decommissioning them after use; road reconstruction and maintenance throughout the planning area; and use of existing rock pits. All acreages and miles are approximate and will be refined during sale layout. The project proposes to amend the 1990 Umpqua National Forest Land and Resource Management Plan (LRMP). The planning area is located approximately 34 miles southeast of Roseburg, Oregon. The project is expected to be implemented starting in Fiscal Year 2010. The agency gives notice of the full environmental analysis and decision-making process that will occur on the proposal so that interested and affected people may become aware of how they can participate in the process and contribute to the final decision.

DATES: Comments concerning the scope of the analysis must be received by 30 days from the date this Notice of Intent appears in the Federal Register. The draft environmental impact statement is expected to be available in the fall of 2009 and the final environmental impact statement is expected to be available in the winter of 2010.

ADDRESSES: Send written comments and suggestions concerning this proposal to Clifford J. Dils, Forest Supervisor, c/o Debbie Anderson, IDT Leader, Umpqua National Forest, 2900 NW Stewart Parkway, Roseburg, OR 97471; you may also submit scoping comments electronically to comments-pacificnorthwest-umpqua@fs.fed.us.

FOR FURTHER INFORMATION CONTACT: For information about the proposal, contact Joshua Chapman, Cow Creek Project Manager, phone 541-957-3260, e-mail joshuachapman@fs.fed.us, or Debbie Anderson, Cow Creek Interdisciplinary Team Leader, phone 541-957-3466, e-mail danderson01@fs.fed.us, Umpqua National Forest, 2900 NW Stewart Parkway, Roseburg, OR 97471. The proposal is also listed on the Forest's Web site at http://www.fs.fed.us/r6/umpqua/projects/projects.shtml.

SUPPLEMENTARY INFORMATION: The planning area being analyzed in the Cow Creek Timber Sale and Hazardous Fuels Reduction Project encompasses almost 45,000 acres, and is bounded by community of Tiller to the North, the Bureau of Land Management (BLM) land to the South and West, and the Rogue River-Siskiyou National Forest to the East. The planning area includes all or portions of T31S, R2W; T31S, R3W; T32S, R1W; T32S, R2W; T32S, R3W; and T33S, R3W, Willamette Meridian, Oregon.

Purpose and Need for Action

The purpose of the Cow Creek Timber Sale and Hazardous Fuels Reduction Project is to reduce the current, uncharacteristically high fire hazard within the project area, increase the within-stand resiliency to stand replacement fire and to increase stand structural diversity. The need for action is focused on three elements:

Element 1: The need to reduce existing and predicted fuel loads and fire hazard in areas identified as high fire hazard within the Cow Creek and Tiller wildland-urban interface areas (WUIs).

Element 2: There is a need to reduce the potential fire size and severity within spotted owl habitat and Late Successional Reserve 223 (which is also spotted owl Critical Habitat).

Element 3: Outside of WUI and LSR, there is a need to alter forest and stand conditions in the planning area to more closely resemble conditions that were maintained by the mixed severity fire regime of the Klamath Province, and a need to move the existing fire regime from current Fire Regime Condition Class III, to a Fire Regime Condition Class II or I.

Proposed Action

The proposed action was developed to address the elements of the purpose and need. It would implement recommendations of the Douglas County Community Wildfire Protection Plans for Cow Creek and Tiller to treat hazardous fuels in the WUIs, and reduce existing stand densities in order to approximate historic stand conditions maintained by a mixed severity fire regime. Specifically the Proposed Action includes the following activities:

• Commercial thinning on about 2,700 acres in managed second growth plantations leaving 50-90 trees per acre (TPA); Proportional thinning and thinning from below on about 6,300 acres in unmanaged late seral conifer stands (leaving 40-90 TPA). The thinnings would use ground-based and skyline logging systems in both the matrix, riparian reserve, and late successional reserve (LSR) land allocations and would generate an estimated 90 million board feet of timber. Within the late successional reserve, canopy closure would be maintained at about 60% on the approximate 2,850 acres thinned in the LSR to maintain its ability to function as spotted owl habitat. All perennial streams would have a no harvest buffer of 50 feet or greater to protect the primary shade zone. Final no harvest riparian buffers will be designated prior to the Draft EIS and will further reduce the number of acres thinned.

• Treating activity-created fuels (slash) on commercially thinned areas by underburning, machine piling, masticating, handpile burning, lopping and scattering, yarding tops attached or whole tree yarding, or using a combination of the above.

• Non-commercial treatement and/or removal of fuels on about 4,400 acres by non-commercial thinning, mastication, whip felling, chipping, and piling and burning of slash.

• Using prescribed fire to reduce fuels as the primary treatment method on about 813 acres.

• Using about ⅛ of a mile of an existing, unclassified temporary road to access thinning areas then decommissioning after use.

• Building a total of about 27 miles of new temporary spur roads to provide access for logging machinery and for accessing stands for non-commercial treatments, then obliterating them after use.

• Re-opening about 0.5 miles of currently closed system road to provide access to stands, then closing them after use.

• Reconstructing and repairing portions of existing system roads (work would occur along small sections of these roads) including: Road re-alignment; intersection improvement; road widening; slide and/or slump repair; placing or replacing surface rock; reshaping road beds; culvert replacement, and hazard tree felling.

• Maintaining about 88 miles of existing roads including: Grading and shaping of existing road surfaces; dust abatement using magnesium chloride or water; blading road beds and ditches; hazard tree felling; cleaning/maintaining ditches as needed; opening and re-closing existing closed roads; removing debris from the roadway; and cutting of intruding vegetation along roadsides.

• Utilizing the existing Peavine, Brownie, and Stauch Ranch rock pits (including drilling, blasting, rock crushing and rock hauling), along with several rock disposal sites as the rock source for the road work.

• Other connected and similar actions would also be implemented, including noxious weed treatment, pre-commercial thinning, expansion of the Peavine pit, and sump improvement.

Forest Plan Amendments

The 1990 Umpqua National Forest Land and Resource Management Plan (LRMP) would be amended in the following areas:

1. The LRMP does not permit timber harvest in Management Areas 1, except in the event of catastrophic damage; there are about 36 acres of potential commercial treatment planned in MA 1 in order to reduce fuels in the Wildland Urban Interface (WUI) area. The LRMP would be amended to potentially allow timber harvest and tree removal to help reduce the fire risk in the WUI and to allow for more than one year of recovery to the Visual Quality Objective of Retention.

2. The LRMP excludes timber harvest around unique habitats for a distance of 150 feet. The LRMP would be amended to allow for fuel reduction treatments adjacent to some unique habitats in order to reduce existing and predicted fuel loads.

Possible Alternatives

The alternatives to be considered include the No Action Alternative, the Proposed Action, and another alternative that may be developed if scoping identifies any issues with the proposed action.

Lead and Cooperating Agencies

The USDA Forest Service, Umpqua National Forest is the lead agency.

Responsible Official

Clifford J. Dils, Forest Supervisor of the Umpqua National Forest, is the responsible official for this project. The address for the Umpqua National Forest is 2900 NW Stewart Parkway, Roseburg, OR 97471.

Nature of Decision To Be Made

The Forest Supervisor of the Umpqua National Forest will decide whether to implement the action as proposed, whether to take no action at this time, or whether to implement any alternatives that are proposed. The Forest Supervisor will also decide whether to amend the 1990 Umpqua National Forest Land and Resource Management Plan, if an action alternative is chosen.

Preliminary Issues

At this time, no preliminary issues have been identified.

Scoping Process

This notice of intent initiates the scoping proces which guides the development of the environmental impact statement. The project has also been listed in the quarterly schedule of proposed actions (SOPA) since January of 2009. A scoping packet, detailing the proposed action, along with maps of the proposal, will be mailed to over 125 interested publics in May of 2009. The scoping effort is intended to identify issues, which may lead to the development of alternatives to the proposed action. Issues that are raised with the proposal may lead to alternative ways to meet the purpose and need of the project.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: May 21, 2009.
Clifford J. Dils,
Forest Supervisor.

[FR Doc. E9-12527 Filed 5-28-09; 8:45 am]

BILLING CODE 3410-11-P